DEPARTMENT OF THE INTERIOR

National Park Service

[N6768; NPS-WASO-NAGPRA-NPS0041535; PPWOCRADN0-PCU00RP14.R50000]

Notice of Intended Disposition: U.S. Department of Agriculture, Forest Service, Tonto National Forest, Phoenix, AZ

AGENCY: National Park Service, Interior.

ACTION: Notice.

SUMMARY: In accordance with the Native American Graves Protection and Repatriation Act (NAGPRA), the U.S. Department of Agriculture, Forest Service, Tonto National Forest intends to carry out the disposition of human remains and associated funerary objects removed from Federal or Tribal lands to the lineal descendants, Indian Tribe, or Native Hawaiian organization with priority for disposition in this notice.

DATES: Disposition of the human remains and associated funerary objects in this notice may occur on or after January 20, 2026. If no claim for disposition is received by December 21, 2026, the human remains and associated funerary objects in this notice will become unclaimed human remains and associated funerary objects.

ADDRESSES: Send written claims for disposition of the human remains and associated funerary objects in this notice to Forest Supervisor Robert Trujillo, Tonto National Forest Supervisor's Office, 2324 E McDowell Road, Phoenix, AZ 85006, email robert.trujillo@usda.gov.

SUPPLEMENTARY INFORMATION: This notice is published as part of the National Park Service's administrative responsibilities under NAGPRA. The determinations in this notice are the sole responsibility of the Tonto National Forest, and additional information on the human remains and associated funerary objects in this notice, including the results of consultation, can be found in the related records. The National Park Service is not responsible for the identifications in this notice.

Abstract of Information Available

Based on the information available, human remains representing, at least, 77 individuals have been reasonably identified. The 25 associated funerary objects are one partial Salado Red Corrugated jar, one lot of sherds comprising one Salado Red jar, one lot of burned Tonto Red sherds, one lot of decorated ceramic sherds, eight lots of plainware and redware ceramic sherds, six lots of lithics and lithic debitage, one complete ground stone, five ground stone fragments, and a piece of marine shell. These human remains and associated funerary objects were recovered in spring and summer 2025 from 17 archaeological sites (AR-03-12-06-324, AR-03-12-06-332, AR-03-12-06-357, AR-03-12-06-430, AR-03-12-06-714, AR-03-12-06-741, AR-03-12-06-753/755, AR-03-12-06-763, AR-03-12-06-773, AR-03-12-06-779, AR-03-12-06-811, AR-03-12-06-1056/1057, AR-03-12-06-3280, AR-03-12-06-3281, AR-03-12-06-3347, AR-03-12-06-3361, and AR-03-12-06-3363) within the “Orange Peel Fuel Break” project area in Tonto Basin, Gila County, Arizona.

Determinations

The Tonto National Forest has determined that:

• The human remains described in this notice represent the physical remains of 77 individuals of Native American ancestry.

• The 25 objects or lots of objects described in this notice are reasonably believed to have been placed intentionally with or near individual human remains at the time of death or later as part of the death rite or ceremony.

• The Ak-Chin Indian Community; Gila River Indian Community of the Gila River Indian Reservation, Arizona; Hopi Tribe of Arizona; Salt River Pima-Maricopa Indian Community of the Salt River Reservation, Arizona; Tohono O'odham Nation of Arizona; and the Zuni Tribe of the Zuni Reservation, New Mexico have priority for disposition of the human remains and associated funerary objects described in this notice.

Claims for Disposition

Written claims for disposition of the human remains and associated funerary objects in this notice must be sent to the appropriate official identified in this notice under ADDRESSES. If no claim for disposition is received by December 21, 2026, the human remains and associated funerary objects in this notice will become unclaimed human remains and associated funerary objects. Claims for disposition may be submitted by:

1. Any lineal descendant, Indian Tribe, or Native Hawaiian organization identified in this notice.

2. Any lineal descendant, Indian Tribe, or Native Hawaiian organization not identified in this notice who shows that they have priority for disposition.

Disposition of the human remains and associated funerary objects in this notice may occur on or after January 20, 2026. If competing claims for disposition are received, the Tonto National Forest must determine the most appropriate claimant prior to disposition. Claims for joint disposition of the human remains and associated funerary objects are considered a single claim and not competing claims. The Tonto National Forest is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: December 4, 2025.
Melanie O'Brien,
Manager, National NAGPRA Program.

[FR Doc. 2025-23341 Filed 12-18-25; 8:45 am]

BILLING CODE 4312-52-P